GENERAL SERVICES ADMINISTRATION

41 CFR Parts 101-9 and 102-192

[FPMR Amendment A- ]

RIN 3090-AH13

Mail Management

AGENCY: Office of Governmentwide Policy, GSA.

ACTION: Proposed rule.

SUMMARY: The General Services Administration (GSA) is revising Federal Property Management Regulations (FPMR) coverage on Federal mail management and moving it into the Federal Management Regulation (FMR). A cross-reference will be added to the FPMR to direct readers to the coverage in the FMR. The FMR is written in plain language to provide agencies with updated regulatory material that is easy to read and understand.

DATES: Your comments must reach us by July 30, 2001 to be considered in the formulation of a final rule.

ADDRESSES: Send written comments to: Michael E. Hopkins, Regulatory Secretariat (MVRS), Federal Acquisition Policy Division, General Services Administration, 1800 F Street, NW., Washington, DC 20405.

Send comments by e-mail to: RIN.3090-AH13@gsa.gov.

FOR FURTHER INFORMATION CONTACT: Henry Maury, Office of Transportation and Personal Property (MT), 202-208-7928 or henry.maury@gsa.gov.

SUPPLEMENTARY INFORMATION

A. Background

The purposes of this proposed rule are to update, streamline, and clarify FPMR part 101-9, Federal Mail Management, and move that part into the Federal Management Regulation (FMR). The proposed rule is written in a plain language, question and answer format. This style uses the active voice, shorter sentences, and pronouns. A question and its answer combine to establish a rule; that is, Federal agencies and Federal employees must follow the language contained in both the question and its answer.

Section 2 of Public Law 94-575, the Federal Records Management Amendments of 1976, as amended, directs the Administrator of General Services to provide guidance and assistance to Federal agencies on records management, including the processing of mail by Federal agencies, and this proposed rule implements that direction. In doing so, this proposed rule establishes three new requirements:

(1) GSA's research shows that Federal agencies use mail more efficiently and effectively when the financial resources and costs for mail are identified, managed, and reported at the user level, so this proposed rule requires that Federal agencies move in that direction. No later than October 1, 2002, all Federal agencies are required to have restructured their financial systems in this fashion. GSA urges agencies to include their Chief Financial Officers and Chief Information Officers in reviewing this proposed rule because of this new requirement.

(2) The existing regulation, FPMR part 101-9, requires Federal agencies to collect and maintain data on mail volumes and postage expenditures. This proposed rule requires all agencies that spend more than $1 million per year on postage to collect data on postage expenditures and report data to GSA. As a step towards this requirement, this proposed rule requires all such agencies to tell GSA what mail data they currently collect via a report due 30 days after this is published as a final rule.

(3) FPMR part 101-9 requires Federal agencies to develop and maintain mail security plans, and it encourages Federal agencies to submit narratives on their cost savings to GSA. This proposed rule requires all agencies that spend over $1 million per year on postage to prepare mail management plans and submit them annually to GSA. These mail management plans are intended to address traditional issues such as security, processing efficiencies, and use of available postage discounts. These plans are also intended to help agencies strengthen accountability for mail management and clarify the relationships between the effectiveness of their mail management programs and the accomplishment of their programmatic missions.

Questions

To assist GSA in putting this proposed rule into final form, please respond to the following questions in your comments on this proposed rule:

(a) How would you express the relationships between the effectiveness of your mail management program and accomplishing your agency's programmatic mission? Please provide examples of any relevant performance measures currently used by your agency.

(b) What are the best ways to make agency program and financial managers aware of these relationships?

(c) Are there other stakeholders within or outside of your agency who might care about these relationships?

(d) What is the best way to manage your mail so that mission program managers have incentives to use the most effective and least expensive communication methods, be they electronic or paper-based?

(e) This proposal requires that users with significant mail volumes pay the costs of mailing. How should agency mail billing systems be implemented in order to be cost effective?

B. Executive Order 12866

GSA has determined that this proposed rule is not a significant rule for the purposes of Executive Order 12866 of September 30, 1993.

C. Regulatory Flexibility Act

The proposed rule is not expected to have a significant economic impact on a substantial number of small entities within the meaning of the Regulatory Flexibility Act, 5 U.S.C. 601, et seq.

D. Paperwork Reduction Act

The Paperwork Reduction Act does not apply because this proposed rule does not impose recordkeeping or information collection requirements, or the collection of information from offerors, contractors, or members of the public which require the approval of the Office of Management and Budget (OMB) under 44 U.S.C. 3501, et seq.

E. Small Business Regulatory Enforcement Fairness Act

This proposed rule is exempt from Congressional review prescribed under 5 U.S.C. 801 since it relates solely to agency management and personnel.

List of Subjects in 41 CFR Parts 101-9 and 102-192

Electronic mail, Federal mail management, Financial accountability, Mail security, Performance measurement.

For the reasons set forth in the preamble, 41 CFR chapters 101 and 102 are amended as follows:

CHAPTER 101—[AMENDED]

1. Part 101-9 is revised to read as follows:

PART 101-9—FEDERAL MAIL MANAGEMENT

Authority: 40 U.S.C. 486(c); sec. 2, Pub. L. 94-575, as amended, 44 U.S.C. 2904; sec. 205(c), 63 Stat. 390.

§ 101-9.000 Cross-reference to the Federal Management Regulation (FMR) (41 CFR chapter 102, parts 102-1 through 102-220).

For Federal mail management information previously contained in this part, see FMR part 192 (41 CFR part 102-192).

CHAPTER 102—[AMENDED]

2. Part 102-192 is added to subchapter G to read as follows:

PART 102-192—MAIL MANAGEMENT

Subpart A—General Provisions
Sec.
102-192.5 What does this part cover?
102-192.10 What authority governs this part?
102-192.15 How are “I”, “you”, “me”, “we”, and “us” used in this part?
102-192.20 How are “must” and “should” used in this part?
102-192.25 Does this part apply to me?
102-192.30 What types of mail does this part apply to?
102-192.35 What definitions apply to this part?
102-192.40 How do we request a deviation from these requirements, and who can approve it?
Subpart B—Financial Accountability Requirement
102-192.45 Is there a particular way that agencies must account for mail expenses?
102-192.50 What is the purpose of this financial accountability requirement for mail?
Subpart C—Measurement and Reporting Requirements
102-192.55 What aspects of mail must we measure for the entire agency?
102-192.60 What aspects of mail must we measure at the facility level?
102-192.65 What additional aspects of mail should we measure?
102-192.70 Which agencies must report mail data to GSA?
102-192.75 What must we report to GSA about our mail operations?
102-192.80 How often must we report to GSA about our mail operations?
102-192.85 When must we submit reports to GSA about mail?
102-192.90 What format should we use when reporting mail data to GSA?
102-192.95 To whom must we submit our reports about mail?
102-192.100 Why does GSA require these reports about mail?
Subpart D—Agency Mail Manager Responsibilities
102-192.105 Which Federal agencies must designate an agency mail manager?
102-192.110 What is the appropriate managerial level for an agency mail manager?
102-192.115 What are my general responsibilities as an agency mail manager?
102-192.120 What are my financial responsibilities as agency mail manager?
102-192.125 Must we have an annual agency-wide mail management plan?
102-192.130 What should we include in our annual agency-wide mail management plan for mail?
102-192.135 What less costly alternatives to expedited mail and couriers should our agency-wide mail management plan address?
102-192.140 What security issues should our agency-wide mail management plan address?
Subpart E—Facility Mail Manager Responsibilities
102-192.145 What are my general responsibilities as a facility mail manager?
102-192.150 Must I have a facility mail security plan?
102-192.155 What should I include in the facility mail security plan?
102-192.160 What should I include when contracting out all or part of the mail function?
Subpart F—GSA Responsibilities and Services
102-192.165 What are GSA's responsibilities in mail management?
102-192.170 What types of support does GSA offer to Federal agency mail managers?
102-192.175 What types of support does GSA offer to Federal mail managers?

Authority: 40 U.S.C. 486(c); Sec. 2, Pub. L. 94-575, as amended, 44 U.S.C. 2904; Sec. 205(c), 63 Stat. 390.

Subpart A—General Provisions

§ 102-192.5 What does this part cover?

This part prescribes policy and requirements for the efficient, effective, and economical management of incoming, internal, and outgoing mail in Federal agencies.

§ 102-192.10 What authority governs this part?

Section 2 of Public Law 94-575, the Federal Records Management Amendments of 1976 (44 U.S.C. 2904), as amended, requires the Administrator of General Services to provide guidance and assistance to Federal agencies on records management, and 44 U.S.C. 2901 defines the processing of mail by Federal agencies as a records management activity.

§ 102-192.15 How are “I”, “you”, “me”, “we”, and “us” used in this part?

“I”, “me”, and “you” (in its singular sense) refer to agency mail managers and/or facility mail managers; the context makes it clear which usage is intended in each case. “We”, “us”, and “you” (in its plural sense) refer to your Federal agency.

§ 102-192.20 How are “must” and “should” used in this part?

In this part:

(a) “Must” identifies steps that Federal agencies are required to take; and

(b) “Should” identifies steps that GSA strongly recommends because GSA's research has identified these steps as known best practices in mail management.

§ 102-192.25 Does this part apply to me?

Yes, this part applies to you if you work in a Federal agency, as defined in § 102-192.35.

§ 102-192.30 What types of mail does this part apply to?

This part applies to:

(a) All materials that might pass through a Federal mail processing center, including:

(1) All internal, incoming, and outgoing materials such as envelopes, bulk mail, expedited mail, individual packages up to 70 pounds, publications, and postal cards, regardless of whether or not they currently pass through a particular mail center; and

(2) Similar materials carried by agency personnel, contractors, the United States Postal Service (USPS), and all other carriers of such items; and

(b) Electronic mail only if it is printed out and mailed as described in the two previous sentences of this paragraph; however, this part encourages agencies to maximize use of electronic mail in lieu of printed media, so long as it is cost-effective.

§ 102-192.35 What definitions apply to this part?

The following definitions apply to this part:

Agency mail manager means the person who manages the overall mail communications program of the agency and represents the agency in its relations with mail service providers, other agency mail managers, and the GSA Office of Governmentwide Policy. See subpart D of this part for additional information about the responsibilities of the agency mail manager.

Class of mail means the following classes of domestic mail as defined by the United States Postal Service in the Domestic Mail Manual, (C100 through C600.1.z):

(1) First Class

(2) Standard Mail (e.g., bulk marketing mail)

(3) Package Services

(4) Express Mail

(5) Periodicals

Note to the definition of Class of mail: The Domestic Mail Manual is available from: New Orders, Superintendent of Documents U.S. Government Printing Office, PO Box 371954, Pittsburgh, PA 15250-7954, http://pe.usps.gov/

Commingling means the merging of outgoing mail from one facility or agency with outgoing mail from another.

Expedited mail is a generic term that describes mail designated for delivery more quickly than the USPS's normal delivery times (which vary by class of mail). Examples of expedited mail include USPS Express Mail and overnight and two-day delivery by other service providers.

Facility mail manager means the person responsible for mail in a specific Federal facility. There may be many facility mail managers within a Federal agency. See subpart E of this part for additional information about facility mail managers.

Federal facility or facility means any office building, installation, base, etc., where Federal agency employees work. “Facility” also includes any component of an agency that is generating more than $250,000 in outgoing mail expenses through contracts with printers or distributors.

Federal agency or agency means:

(1) Any executive department as defined in 5 U.S.C. 101;

(2) Any wholly owned Government corporation as defined in 31 U.S.C. 9101;

(3) Any independent establishment in the executive branch as defined in 5 U.S.C. 104; and

(4) Any establishment in the legislative branch, except the Senate, the House of Representatives, the Architect of the Capitol, and all activities under the direction of the Architect of the Capitol (44 U.S.C. 2901(14)).

Incoming mail means any mail that comes into the agency delivered by any service provider, such as the USPS, UPS, FedEx, or DHL.

Internal mail means mail generated within a Federal facility that is delivered within that facility or to a nearby facility of the same agency, so long as it is delivered by agency personnel or a dedicated agency contractor (i.e., not a service provider).

Mail means the types of mail described in § 102-192.30.

Mail piece design means laying out and printing items to be mailed such that they can be processed efficiently and effectively by automated mail processing equipment.

Outgoing mail means mail generated within a Federal facility that is going outside that facility and is delivered by a service provider.

Postage means money due or paid to any service provider.

Service provider means any agency or company that delivers mail. Some examples of service providers are USPS, UPS, FedEx, DHL, courier services, the Military Postal Service Agency, and other Federal agencies providing services.

Special services means those services paid by fees added to basic postage; e.g., certified mail, business reply mail, registered mail, insurance, merchandise return service, certificates of mailing, return receipts, and delivery confirmation.

Unauthorized use of agency postage means the use of penalty or commercial mail stamps, meter impressions, or other postage indicia for personal use or any other purpose that is not necessary for official business.

Worksharing means cost-effective ways of processing outgoing mail that qualify it for reduced postage rates; examples include presorting, bar coding, consolidating, and commingling.

§ 102-192.40 How do we request a deviation from these requirements, and who can approve it?

See § § 102-2.60 through 102-2.110 of this chapter to request a deviation from the requirements of this part.

Subpart B—Financial Accountability Requirement

§ 102-192.45 Is there a particular way that agencies must account for mail expenses?

Yes, no later than October 1, 2002, all Federal agencies, as defined in § 102-192.35, must ensure that costs incurred for mail are identified, managed, and reported at the user level. That is:

(a) Agency financial systems must show allocations and expenses for postage and all other mail costs (e.g., payments to service providers, mail center personnel costs, mail center overhead, etc.) separate from all other administrative expenses;

(b) To the maximum practical extent, the person who makes the decision to mail any significant number of pieces of mail should be the same person who controls the funds for postage;

(c) Mail centers must establish systems to charge their customers for postage; and

(d) Mail costs that are part of printing contracts should be identified and separated from the printing cost in each contract and charged back separately to the organization that initiated the printing and mailing requirement.

§ 102-192.50 What is the purpose of this financial accountability requirement for mail?

This financial accountability requirement will make it possible for managers at all levels to see how much they are spending for mail. Once they can see how much they are spending, they should take a more active role in managing these costs.

Subpart C—Measurement and Reporting Requirements

§ 102-192.55 What aspects of mail must we measure for the entire agency?

You must separately track the total amount of money that your agency pays to each service provider for mail. This includes money paid to the USPS through the Official Mail Accounting System or through commercial payment mechanisms.

§ 102-192.60 What aspects of mail must we measure at the facility level?

If your facility's total annual payments to all service providers exceed $250,000, you must separately track the total amount of money that your facility pays to each service provider for mail. This includes money paid to the USPS through the Official Mail Accounting System or through commercial payment mechanisms.

§ 102-192.65 What additional aspects of mail should we measure?

(a) Efficient and effective management of mail requires collection of performance data and establishment of performance goals. Sections 102-192.55 and 102-192.60 identify money paid to vendors as the only data that you are required to collect. However, cost is only one aspect of mail management; you are, therefore, strongly encouraged to establish a wider range of performance data collection and performance goals for mail, including goals that connect mail management to performance of your agency's mission.

(b) A relatively small number of facilities generates most of the incoming and outgoing mail in most government or private organizations. You should know which facilities generate most of your mail, and you should focus your performance measurement programs on those facilities.

(c) The range of measures will depend on the size of your agency or facility, your mission, and the life cycle cost of data collection. Examples of data that you might collect include:

(1) Savings from worksharing;

(2) Pieces of mail handled per mail center FTE;

(3) Cost per piece by class of mail, with first class broken down into letters and flats;

(4) Ratio of express mail expense to total postage;

(5) Savings obtained through worksharing;

(6) Spoiled postage (i.e., stamps or metered envelopes so damaged that they cannot be used);

(7) Percent of outgoing mail transferred from the mail center to a service provider on the same day that it is received by the mail center from internal customers;

(8) Percent of internal mail delivered on time, according to agency delivery standards;

(9) Percent of incoming mail sorted incorrectly;

(10) Cost and percentage of returned mail;

(11) Ratio of production staff to administrative staff;

(12) Customer satisfaction;

(13) Employee satisfaction;

(14) Workplace safety (e.g., number of accidents per work year, work hours lost due to accidents, etc.); and

(15) Annual hours of training per mail center FTE.

§ 102-192.70 Which agencies must report mail data to GSA?

Every Federal agency whose total annual payments to all service providers exceed $1,000,000 must report the data specified in § 102-192.75 to GSA.

§ 102-192.75 What must we report to GSA about our mail operations?

(a) If you meet the requirement in § 102-192.70, you must report to GSA the data described in § 102-192.55, broken down by service provider. You must also provide a copy of your agency's annual mail management plan, and the name, address, telephone number, and e-mail address (if any) of the agency mail manager. In addition, you must report any data described in § 102-192.65 that you collect on an agency-wide basis.

(b) Once only, 30 days after the effective date of this rule, you must provide GSA with a concise statement that describes the performance data that you currently collect at the agency and facility levels.

§ 102-192.80 How often must we report to GSA about our mail operations?

If you meet the requirement in § 102-192.70, you must report to GSA annually. The name of the agency mail manager must be reported whenever it changes. Note that GSA maintains an updated list of Federal agency mail managers at: http://policyworks.gov/org/main/mt/homepage/mail/april/federal_agency_mail_managers.htm

§ 102-192.85 When must we submit reports to GSA about mail?

If you meet the requirement in § 102-192.70, the first annual report to GSA is due on January 15, 2002, covering Fiscal Year 2001. Fiscal year reports will be due annually on January 15 thereafter.

§ 102-192.90 What format should we use when reporting mail data to GSA?

GSA will provide the format and reporting process for submitting data and mail management plans. These will be developed in collaboration with the Interagency Mail Policy Council. See § § 102-192.130 through 102-192.140 for additional information on mail management plans.

§ 102-192.95 To whom must we submit our reports about mail?

If you meet the requirement in § 102-192.70, submit your mail reports to:

(a) General Services Administration, Office of Governmentwide Policy, Mail Communications Policy Division (MTM), Washington, DC 20405; and

(b) Your agency's Chief Financial Officer, your agency's Chief Administrative Officer, your agency's Chief Information Officer, or their designees.

§ 102-192.100 Why does GSA require these reports about mail?

GSA requires these reports about mail to:

(a) Ensure that Federal agencies have performance measures and goals for their mail communications programs; and

(b) Give GSA data to track Governmentwide trends in mail communications so that it can fulfill its responsibilities under the Federal Records Act.

Subpart D—Agency Mail Manager Responsibilities

§ 102-192.105 Which Federal agencies must designate an agency mail manager?

Every Federal agency whose total annual payments to all service providers exceed $1,000,000 must designate an agency mail manager.

§ 102-192.110 What is the appropriate managerial level for an agency mail manager?

The agency mail manager should be at a managerial level that enables him or her to fulfill the requirements of this part; i.e., to:

(a) Prepare and submit agency-wide reports to GSA;

(b) Ensure that the agency has an effective internal system for tracking postage costs; and

(c) Develop and implement agencywide policies, procedures, performance data collection, and agencywide mail management plans.

§ 102-192.115 What are my general responsibilities as an agency mail manager?

As an agency mail manager, you should:

(a) Establish written policies and procedures to provide timely and cost effective dispatch and delivery of mail;

(b) Ensure agency-wide awareness and compliance with standards and operational procedures established by all service providers used by the agency;

(c) Monitor the agency's mailings and other mail management activities, especially expedited mail, mass mailings, mailing lists, and couriers, and seek opportunities to implement cost-effective improvements and/or to enhance performance of the agency's mission;

(d) Develop and direct agency programs and plans for proper and cost-effective use of transportation, equipment, and supplies used for mail;

(e) Develop and implement the agency's annual mail management plan;

(f) Ensure that facility mail managers receive the training they need to perform their assigned duties.

(g) Develop and provide the reports required by this part to GSA; and

(h) Establish written policies and procedures to minimize personal mail in incoming, outgoing, and internal agency mail.

Note to § 102-192.115(h): An agency may decide to accept and process personal mail for personnel living on a Federal facility, personnel stationed outside the United States, or personnel in other situations who would otherwise suffer hardship.

§ 102-192.120 What are my financial responsibilities as an agency mail manager?

As an agency mail manager you should:

(a) Establish and maintain a system that tracks the financial and other performance data discussed in § 102-192.55 and § 102-192.60;

(b) Work with agency executives to ensure that, to the maximum practical extent, the person who makes the decision to mail any significant number of pieces of mail is the same person who controls the funds for postage;

(c) Work with agency accounting personnel to ensure that financial systems show allocations and expenses for postage and all other mail costs separately from all other administrative expenses; and

(d) Ensure that bills from all service providers are reconciled and paid on a timely basis.

§ 102-192.125 Must we have an annual agency-wide mail management plan?

Yes, you must develop and implement an annual agency-wide mail management plan if your total annual payments to all service providers exceed $1,000,000.

§ 102-192.130 What should we include in our annual agency-wide mail management plan for mail?

Your agency-wide mail management plan should address:

(a) The ways in which mail management supports accomplishment of your agency's mission;

(b) Identifying the facilities within your agency that generate large volumes of mail;

(c) Identifying opportunities for reducing costs and/or enhancing your agency's ability to perform its mission through better mail management;

(d) Choosing the lowest cost and/or best value service provider(s) for outgoing mail, while ensuring that the Private Express Statutes and all USPS regulations are followed;

(e) Maximizing worksharing;

(f) Maximizing automated mail communications procedures, including automated addressing, mail list management, electronic mail, and use of the Internet;

(g) Maximizing centralized mail processing, consolidation, and commingling to obtain postage discounts;

(h) Developing and maintaining procedures and instructions for the cost-effective use of expedited mail, mass mailings, couriers, and mail piece design;

(i) Ensuring that, to the maximum practical extent, the person who makes the decision to mail any significant number of pieces of mail is the same person who controls the funds for postage;

(j) Ensuring that financial systems show allocations and expenses for postage and all other mail costs separately from all other administrative expenses;

(k) Ensuring that your agency's mail centers are secure; and

(l) Developing and maintaining performance data systems and specific performance goals, and relating mail management goals to your agency's mission-related goals.

§ 102-192.135 What less costly alternatives to expedited mail and couriers should our agency-wide mail management plan address?

Your plan should address the following alternatives to expedited mail and couriers:

(a) First Class and Priority Mail from the USPS;

(b) Package delivery services from other service providers; and

(c) Electronic transmission via e-mail, facsimile transmission, electronic commerce, the Internet, etc.

§ 102-192.140 What security issues should our agency-wide mail management plan address?

Your plan should:

(a) Address how your facilities will meet the standards established by the Interagency Security Committee that was established in accordance with Executive Order 12977, dated October 19, 1995 (3 CFR part 413);

(b) Address training facility mail managers in security procedures, how all incoming mail will be handled regardless of carrier, and which mail facilities should x-ray all incoming mail; and

(c) Ensure that facility mail managers participate in their building security committees, wherever such committees exist.

Subpart E—Facility Mail Manager Responsibilities

§ 102-192.145 What are my general responsibilities as a facility mail manager?

As a Federal facility mail manager you should:

(a) Implement policies and procedures developed by the agency mail manager, including cost control procedures;

(b) Work to improve, streamline, and reduce the cost of mail practices and procedures by continually reviewing work processes throughout the facility and seeking opportunities for cost-effective change;

(c) Work closely with all facility personnel, especially those involved in developing large mailings, to minimize postage and associated printing expenses through improved mail piece design, mail list management, electronic transmission of data in lieu of mail, and other appropriate measures;

(d) Work with local managers to ensure that, to the maximum practical extent, the person who makes the decision to mail any significant number of pieces of mail is the same person who controls the funds for postage;

(e) Ensure that expedited mail and couriers are used only when authorized by the Private Express Statutes (39 U.S.C. 601-606) and when necessary and cost-effective;

(f) Provide centralized control of all mail processing activities at the facility, including all regularly scheduled, small package, and expedited service providers, couriers, equipment and personnel;

(g) Review unauthorized use, loss, or theft of postage, including any unauthorized use of penalty or commercial mail stamps, meter impressions or other postage indicia, and immediately report such incidents to the agency Inspector General, internal security office, or other appropriate authority;

(h) Provide training opportunities for all levels of agency personnel at the facility on cost-effective mailing practices for incoming, outgoing, and internal mail; and

(i) Ensure that outgoing mail meets all the standards established by your service provider(s) for weight, size, hazardous materials content, etc.

§ 102-192.150 Must I have a facility mail security plan?

If your facility's total annual payments to all service providers exceed $250,000, you must develop and implement a facility mail security plan, and it should be updated whenever circumstances warrant.

§ 102-192.155 What should I include in the facility mail security plan?

Your facility security plan should:

(a) Address how your facility will meet the standards established by the Interagency Security Committee that was established in accordance with Executive Order 12977, dated October 19, 1995 (3 CFR part 413); and

(b) Discuss, at a minimum:

(1) Policies and procedures for safe and secure facility operations consistent with your agency's core mission and agency mail security plan;

(2) Security training for facility personnel;

(3) Safe transportation of mail; and

(4) X-raying of mail where appropriate.

§ 102-192.160 What should I include when contracting out all or part of the mail function?

Any contract for a mail function should require compliance with:

(a) This part;

(b) The Private Express Statutes (39 U.S.C. 601-606); and

(c) All agency policies, procedures, and plans, including the agencywide mail management plan.

Subpart F—GSA Responsibilities and Services

§ 102-192.165 What are GSA's responsibilities in mail management?

Under the Federal Records Management Amendments of 1976, as amended (44 U.S.C 2904), GSA is required to provide guidance and assistance to Federal agencies to ensure economical and effective records management by such agencies (mail is one type of record, according to the Act). In carrying out its responsibilities under the Act, GSA is required to:

(a) Promulgate standards, procedures, and guidelines;

(b) Conduct research to improve practices and programs;

(c) Collect and disseminate information on training programs, technological developments, etc.;

(d) Establish an interagency committee (i.e., the Interagency Mail Policy Council) to provide an exchange of information among Federal agencies;

(e) Conduct studies, inspections, or surveys; and

(f) Promote economy and efficiency in the selection and utilization of space, staff, equipment, and supplies.

§ 102-192.170 What types of support does GSA offer to Federal agency mail management programs?

GSA will support Federal agency mail management programs by:

(a) Assisting development of agency policy and guidance in mail management and mail operations;

(b) Identifying better business practices and sharing them with Federal agencies;

(c) Developing and providing access to a Governmentwide management information system for mail;

(d) Helping agencies develop performance measures and management information systems for mail;

(e) Maintaining a current list of Agency Mail Managers; and

(f) Maintaining liaisons with the USPS and other service providers at the national level.

§ 102-192.175 What types of support does GSA offer to Federal mail managers?

The GSA Office of Governmentwide Policy maintains a website for mail communications policy. You may also contact GSA at: General Services Administration, Office of Governmentwide Policy, Mail Communications Policy Division (MTM), Washington DC 20405; or at: (e-mail address to be inserted later).

Dated: May 9, 2001.
G. Martin Wagner,
Associate Administrator for Governmentwide Policy.

[FR Doc. 01-13282 Filed 5-25-01; 8:45 am]

BILLING CODE 6820-24-P